DEPARTMENT OF HOUSING AND URBAN DEVELOPMENT

[Docket No. FR 5377-N-02]

Notice of Proposed Information Collection: Comment Request, State Community Development Block (CDBG) Program

AGENCY: Office of the Assistant Secretary for Community Planning and Development, HUD.

ACTION: Notice.

SUMMARY: The proposed information collection requirement described below will be submitted to the Office of Management and Budget (OMB) for review, as required by the Paperwork Reduction Act. The Department is soliciting public comments on the subject proposal.

DATES: Comments Due Date: October 25, 2010.

ADDRESSES: Interested persons are invited to submit comments regarding this proposal. Comments should refer to the proposal by name and/or OMB Control Number and should be sent to: Leroy McKinney, Reports Management Officer, QDAM, Department of Housing and Urban Development, 451 7th Street, SW., Room 4178, Washington, DC 20410; telephone, 202-402-5564 (this is not a toll-free number), or e-mail Mr. McKinney at Leroy.McKinneyJr@hud.gov.

FOR FURTHER INFORMATION CONTACT: Eva Fontheim at (202) 402-3461 (this is not a toll free number) for copies of the proposed forms and other available documents.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g., permitting electronic submission of responses.

This Notice also lists the following information:

Title of Proposal: State Community Development Block Grant (CDBG) Program.

OMB Control Number, if applicable: 2506-0085.

Description of the need for the information and proposed use: The Housing and Community Development Act of 1974, as amended (HCDA), requires grant recipients that receive CDBG funding to retain records necessary to document compliance with statutory and regulatory requirements on an on-going basis. Grantees must also submit an annual performance and evaluation report to demonstrate progress that it has made in carrying out its consolidated plan, and such records as may be necessary to facilitate review and audit by HUD of the grantee's administration of CDBG funds [Section 104(e)]. The statute also requires [Section 104(e)(2)] that HUD conduct an annual review to determine whether States have distributed funds to units of general local government in a timely manner. HUD has re-designed a form by which the grantees can report their compliance with this requirement.

Agency form numbers, if applicable: The collection of this information will be submitted on HUD's timely distribution form or in similar format from State records or systems.

Members of affected public: This information collection applies to 50 State CDBG Grantees (49 States and Puerto Rico but not Hawaii).

Estimation of the total numbers of hours needed to prepare the information collection including number of respondents, frequency of response, and hours of response: The estimated number of respondents is 50. The proposed frequency of the response to the collection of information is annual at 1.5 hours per response with a total of 75 hours additional reporting burden. The record keeping burden for program compliance is already included under the currently approved information collection. The estimate of the annual reporting and recordkeeping is increased to 112,175 hours for 50 grant recipients. The 75 hour increase due to the addition of the timely distribution form represents .067% of the original burden.

Status of the proposed information collection:

Revision of a currently approved collection, and a request for OMB renewal for three years. The current OMB approval will expire in April 30, 2012.

Authority: The Paperwork Reduction Act of 1995, 44 U.S.C. Chapter 35, as amended.

Dated: August 17, 2010.
Mercedes Márquez,
Assistant Secretary for Community Planning and Development.

[FR Doc. 2010-21196 Filed 8-25-10; 8:45 am]

BILLING CODE 4210-67-P